FEDERAL ELECTION COMMISSION

Sunshine Act Meeting Notice

Previously Announced Date & Time: Wednesday, August 28, and Thursday, August 29, 2002, 10 a.m. Public hearing on Electioneering Communications: Notice of Proposed Rulemaking. The starting time has been changed to 9:30 a.m.

Previously Announced Date & Time: Thursday, August 29, 2002, open meeting scheduled for 10 a.m. The starting time has been changed to 2 p.m.

Person to Contact for Information: Mr. Ron Harris, Press Officer, telephone: (202) 694-1220.

Mary W. Dove,
Secretary of the Commission.

[FR Doc. 02-21899 Filed 8-23-02; 2:59 pm]

BILLING CODE 6715-01-M